DEPARTMENT OF ENERGY

Federal Energy Regulatory Commission

[Docket No. ER02-851-000]

Southern Company Services, Inc.; Notice of Non-Disclosure Agreement at Technical Conference

July 26, 2002.

On July 5, 2002, notice was issued that a technical conference will be held in the above-captioned matter on Wednesday, August 7, 2002 at 9:30 a.m. and that the conference may continue on Thursday, August 8, 2002 at 9:30 a.m. if needed. The conference is open to all interested parties and staff. The July 5, 2002 notice stated that the parties should be prepared to discuss at the technical conference the contested issues, staff's information requests, and the answers thereto.

On July 12, 2002, Southern Company Services, Inc. filed responses to staff's requests for information that included a request for confidential treatment of certain materials pursuant to section 388.112 of the Commission's regulations, 18 CFR 388.112, and under the Commission's order on critical energy infrastructure information in Docket Nos. RM02-4-000 and PL02-1-000.¹ At the upcoming August 7, 2002 technical conference, to ensure that the answers to staff's information requests may be freely discussed, all interested parties will be expected to sign the attached nondisclosure agreement as a precondition to attendance and participation.

¹ Rule Regarding Critical Energy Infrastructure Information, 67 FR 3129, FERC Stats. & Regs. ¶ 35,542 (2002).

Dated:
Linwood A. Watson, Jr.,
Deputy Secretary.

Non-Disclosure Agreement

I hereby agree that I will not disclose the non-public material divulged at the August 7-8, 2002 technical conference in this proceeding to anyone other than, as appropriate, my client, my supervisor(s), or anyone else whom I represent or to whom I report and must not engage in any communications prohibited under 18 CFR § 37.4 (2002). That person(s) in turn may not disclose the information to anyone. I understand that the contents of the non-public material, any notes or other memoranda, or any other form of information that copies or discloses this material shall not be disclosed to anyone other than as noted. I further understand that I shall use this material only in connection with this proceeding. I acknowledge that a violation of this agreement constitutes a violation of the Commission's orders in this proceeding establishing a technical conference to explore the issues. Southern Company Services, Inc., 98 FERC ¶ 61,328 at 62,386, order on reh'g, 99 FERC ¶ 61,839 at 61,840 (2002).

By:

Date:

(Print Name)

Title:

Representing:

Mailing Address:

Telephone Number:

Email Address:

Date of Intervention:

[FR Doc. 02-19406 Filed 8-1-02; 8:45 am]

BILLING CODE 6717-01-P